DEPARTMENT OF TRANSPORTATION

Federal Aviation Administration

14 CFR Part 39

[Docket No. FAA-2014-0019; Directorate Identifier 2013-CE-045-AD]

RIN 2120-AA64

Airworthiness Directives; Alexander Schleicher, Segelflugzeugbau Gliders

AGENCY: Federal Aviation Administration (FAA), Department of Transportation (DOT).

ACTION: Notice of proposed rulemaking (NPRM).

SUMMARY: We propose to adopt a new airworthiness directive (AD) for Alexander Schleicher, Segelflugzeugbau Model ASK 21 gliders. This proposed AD results from mandatory continuing airworthiness information (MCAI) originated by an aviation authority of another country to identify and correct an unsafe condition on an aviation product. The MCAI describes the unsafe condition as inadequate guidance for spin training operations. We are issuing this proposed AD to require actions to address the unsafe condition on these products.

DATES: We must receive comments on this proposed AD by March 3, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Alexander Schleicher GmbH & Co. Segelflugzeugbau, Alexander-Schleicher-Str. 1, D-36163 Poppenhausen, Germany; phone: +49 (0) 06658 89-0; fax: +49 (0) 06658 89-40; Internet: http://www.alexander-schleicher.de/; email: info@alexander-schleicher.de. You may review this referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2014-0019; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Jim Rutherford, Aerospace Engineer, FAA, Small Airplane Directorate, 901 Locust, Room 301, Kansas City, Missouri 64106; telephone: (816) 329-4165; fax: (816) 329-4090; email: jim.rutherford@faa.gov.

SUPPLEMENTARY INFORMATION:

Comments Invited

We invite you to send any written relevant data, views, or arguments about this proposed AD. Send your comments to an address listed under the ADDRESSES section. Include “Docket No. FAA-2014-0019; Directorate Identifier 2013-CE-045-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

European Aviation Safety Agency (EASA), which is the Technical Agent for the Member States of the European Community, has issued AD No. 2013-0123, dated June 5, 2013 (referred to after this as “the MCAI”), to correct an unsafe condition for the specified products. The MCAI states:

ASK 21 sailplane spin characteristics can be controlled using tail ballast weights, ensuring that pilots of all weights can achieve the same spin results. Although the tail ballast weights were designed to control the centre of gravity of the sailplane, these weights significantly affect the inertia terms that govern the sailplane response to spin manoeuvres. Schleicher issued a Technical Note (TN) Nr. 4 in 1980 (mainly used in Switzerland) to provide instructions for the Aircraft Flight Manual (AFM) for spin training. These instructions did not provide proper protection against accomplishment of single seated flight with forgotten spin ballast installed.

Schleicher issued a TN Nr. 4a in 2004 to provide instructions to the Aircraft Flight Manual (AFM) amendments to address spin ballast installation and facilitate two seated spin training. However, these instructions did not provide proper guidance for the spin entry techniques. The safety margin in respect to inertia limits was marginal for pilot weights less than 70 kg on the front seat.

Furthermore, in one case, it was observed that a control surface gap was not sealed in accordance with design data approved for that aircraft.

Single seated flight with forgotten spin ballast installed, if not corrected, could lead to sailplane operation beyond its centre of gravity limits. Flights with low inertia momentum around Y axis (as a result of the low weight crew) could result in reduced safety margin in respect to inertia limits.

Improperly sealed control surface gap during spin recovery could lead to significant delay of recovery and reduced control of the sailplane.

To address these potential unsafe conditions, Schleicher issued TN Nr. 4b for ASK 21 model sailplanes and TN Nr. 7 for ASK 21 Mi model sailplanes to amend the associated AFM and Aircraft Maintenance Manual (AMM) procedures and installation of a cockpit placard, as applicable to sailplane model.

For the reasons described above, this AD requires amendment of the AFM, AMM and installation of a cockpit placard.

You may examine the MCAI on the Internet at http://www.regulations.gov by searching for and locating it in Docket No. FAA-2014-0019.

Relevant Service Information

Alexander Schleicher GmbH & Co. Segelflugzeugbau issued ASK 21 Technical Note Nr 4b, Issue for US registered gliders, dated October 31, 2013. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 59 products of U.S. registry. We also estimate that it would take about 2.5 work-hours per product to comply with the basic requirements of this proposed AD. The average labor rate is $85 per work-hour. Required parts would cost about $250 per product.

Based on these figures, we estimate the cost of the proposed AD on U.S. operators to be $27,287.50, or $462.50 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Alexander Schleicher, Segelflugzeugbau: Docket No. FAA-2014-0019; Directorate Identifier 2013-CE-045-AD.

(a) Comments Due Date

We must receive comments by March 3, 2014.

(b) Affected ADs

None.

(c) Applicability

This AD applies to Alexander Schleicher, Segelflugzeugbau Model ASK 21 gliders, all serial numbers, certificated in any category, that have incorporated:

(1) Alexander Schleicher Segelflugzeugbau ASK 21 Technical Note No. 4, dated November 14, 1980; or

(2) Alexander Schleicher GmbH & Co. Segelflugzeugbau ASK 21 Technical Note 4a, dated November 25, 2004.

(d) Subject

Air Transport Association of America (ATA) Code 11: Placards and Markings.

(e) Reason

This AD was prompted by mandatory continuing airworthiness information (MCAI) originated by an aviation authority of another country to identify and correct an unsafe condition on an aviation product. The MCAI describes the unsafe condition as inadequate guidance for spin training operations. We are issuing this proposed AD to ensure the placard installed in the aircraft cockpit, the aircraft flight manual (AFM), and the instructions for continued airworthiness (ICA) all have adequate guidance for spin training operations.

(f) Actions and Compliance

Unless already done, do the following actions as specified in paragraphs (f)(1) through (f)(3) of this AD:

(1) For gliders modified following Alexander Schleicher Segelflugzeugbau ASK 21 Technical Note No. 4, dated November 14, 1980: Within 30 days after the effective date of this AD, insert the amended pages into the glider's AFM and the ICA and install a cockpit placard following paragraph B) of the Action section in Alexander Schleicher GmbH & Co. Segelflugzeugbau ASK 21 Technical Note Nr. 4b, Issue for US registered gliders, dated October 31, 2013.

(2) For gliders modified following Alexander Schleicher GmbH & Co. Segelflugzeugbau ASK 21 Technical Note 4a, dated November 25, 2004: Within 30 days after the effective date of this AD, insert the amended pages into the glider's AFM and the ICA following paragraph C) of the Action section in Alexander Schleicher GmbH & Co. Segelflugzeugbau ASK 21 Technical Note Nr. 4b, Issue for US registered gliders, dated October 31, 2013.

(3) An owner/operator (pilot) holding at least a private pilot certificate may insert the amended pages into the AFM and ICA of the glider required by paragraphs (f)(1) and (f)(2) of this AD and must enter the action into the aircraft records showing compliance with this AD following 14 CFR § 43.9 (a)(1)-(4) and 14 CFR § 91.417(a)(2)(v). The record must be maintained as required by 14 CFR § 91.417, 121.380, or 135.439.

(g) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any aircraft to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No.: 2013-0123, dated June 5, 2013, for related information. You may examine the MCAI on the Internet at http://www.regulations.gov by searching for and locating Docket No. FAA-2014-0019. You may also refer to Alexander Schleicher Segelflugzeugbau ASK 21 Technical Note No. 4, dated November 14, 1980; and Alexander Schleicher GmbH & Co. Segelflugzeugbau ASK 21 Technical Note 4a, dated November 25, 2004, for related information. For service information related to this AD, contact Alexander Schleicher GmbH & Co. Segelflugzeugbau, Alexander-Schleicher-Str. 1, D-36163 Poppenhausen, Germany; phone: +49 (0) 06658 89-0; fax: +49 (0) 06658 89-40; Internet: http://www.alexander-schleicher.de/; email: info@alexander-schleicher.de. You may review this referenced service information at the FAA, Small Airplane Directorate, 901 Locust, Kansas City, Missouri 64106. For information on the availability of this material at the FAA, call (816) 329-4148.

Issued in Kansas City, Missouri, on January 8, 2014.
Earl Lawrence,
Manager, Small Airplane Directorate, Aircraft Certification Service.

[FR Doc. 2014-00641 Filed 1-14-14; 8:45 am]

BILLING CODE 4910-13-P